UNITED STATES COMMISSION ON CIVIL RIGHTS

Advisory Committees Expiration

AGENCY: United States Commission on Civil Rights.

ACTION: Solicitation of applications.

SUMMARY: Because the terms of the members of the Montana Advisory Committee are expiring on November 20, 2016, the United States Commission on Civil Rights hereby invites any individual who is eligible to be appointed to apply. The memberships are exclusively for the Montana Advisory Committee, and applicants must be residents of Montana to be considered. Letters of interest must be received by the Rocky Mountain Regional Office of the U.S. Commission on Civil Rights no later than October 11, 2016. Letters of interest must be sent to the address listed below.

Because the terms of the members of the New Mexico Advisory Committee are expiring on November 20, 2016, the United States Commission on Civil Rights hereby invites any individual who is eligible to be appointed to apply. The memberships are exclusively for the New Mexico Advisory Committee, and applicants must be residents of New Mexico to be considered. Letters of interest must be received by the Rocky Mountain Regional Office of the U.S. Commission on Civil Rights no later than October 11, 2016. Letters of interest must be sent to the address listed below.

Because the terms of the members of the Alaska Advisory Committee are expiring on November 20, 2016, the United States Commission on Civil Rights hereby invites any individual who is eligible to be appointed to apply. The memberships are exclusively for the Alaska Advisory Committee, and applicants must be residents of the Alaska to be considered. Letters of interest must be received by the Western Regional Office of the U.S. Commission on Civil Rights no later than October 11, 2016. Letters of interest must be sent to the address listed below.

Because the terms of the members of the Wyoming Advisory Committee are expiring on November 20, 2016, the United States Commission on Civil Rights hereby invites any individual who is eligible to be appointed to apply. The memberships are exclusively for the Wyoming Advisory Committee, and applicants must be residents of the Wyoming to be considered. Letters of interest must be received by the Rocky Mountain Regional Office of the U.S. Commission on Civil Rights no later than July 14, 2016. Letters of interest must be sent to the address listed below.

Because the terms of the members of the Indiana Advisory Committee are expiring on December 11, 2016, the United States Commission on Civil Rights hereby invites any individual who is eligible to be appointed to apply. The memberships are exclusively for the Indiana Advisory Committee, and applicants must be residents of the Indiana to be considered. Letters of interest must be received by the Midwestern Regional Office of the U.S. Commission on Civil Rights no later than October 11, 2016. Letters of interest must be sent to the address listed below.

DATES: Letters of interest for membership on the Montana Advisory Committee should be received no later than October 11, 2016.

Letters of interest for membership on the New Mexico Advisory Committee should be received no later than October 11, 2016.

Letters of interest for membership on the Alaska Advisory Committee should be received no later than October 11, 2016.

Letters of interest for membership on the Wyoming Advisory Committee should be received no later than October 11, 2016.

Letters of interest for membership on the Indiana Advisory Committee should be received no later than October 11, 2016.

ADDRESSES: Send letters of interest for the Montana Advisory Committee to: U.S. Commission on Civil Rights, Rocky Mountain Regional Office, Byron Rogers Federal Office Building, 1961 Stout Street, Suite 13-201, Denver, CO 80294. Letters can also be sent via email to mcraft@usccr.gov.

Send letters of interest for the New Mexico Advisory Committee to: U.S. Commission on Civil Rights, Rocky Mountain Regional Office, Byron Rogers Federal Office Building, 1961 Stout Street, Suite 13-201, Denver, CO 80294. Letters can also be sent via email to mcraft@usccr.gov.

Send letters of interest for the Alaska Advisory Committee to: U.S. Commission on Civil Rights, Western Regional Office, 300 North Los Angeles Street, Suite 2010, Los Angeles, CA 90012. Letter can also be sent via email to atrevino@usccr.gov.

Send letters of interest for the Wyoming Advisory Committee to: U.S. Commission on Civil Rights, Rocky Mountain Regional Office, Byron Rogers Federal Office Building, 1961 Stout Street, Suite 13-201, Denver, CO 80294. Letters can also be sent via email to mcraft@usccr.gov.

Send letters of interest for the Indiana Advisory Committee to: U.S. Commission on Civil Rights, Midwestern Regional Office, 55 W. Monroe St., Suite 410, Chicago, IL 60603. Letters can also be sent via email to mwojnaroski@usccr.gov.

FOR FURTHER INFORMATION CONTACT: David Mussatt, Chief, Regional Programs Unit, 55 W. Monroe St., Suite 410, Chicago, IL 60603, (312) 353-8311. Questions can also be directed via email to dmussatt@usccr.gov.

SUPPLEMENTARY INFORMATION: The Montana, New Mexico, Alaska, Wyoming, and Indiana Advisory Committees are statutorily mandated federal advisory committees of the U.S. Commission on Civil Rights pursuant to 42 U.S.C. 1975a. Under the charter for the advisory committees, the purpose is to provide advice and recommendations to the U.S. Commission on Civil Rights (Commission) on a broad range of civil rights matters in its respective state that pertain to alleged deprivations of voting rights or discrimination or denials of equal protection of the laws because of race, color, religion, sex, age, disability, or national origin, or the administration of justice. Advisory committees also provide assistance to the Commission in its statutory obligation to serve as a national clearinghouse for civil rights information.

Each advisory committee consists of not more than 19 members, each of whom will serve a four-year term. Members serve as unpaid Special Government Employees who are reimbursed for travel and expenses. To be eligible to be on an advisory committee, applicants must be residents of the respective state or district, and have demonstrated expertise or interest in civil rights issues.

The Commission is an independent, bipartisan agency established by Congress in 1957 to focus on matters of race, color, religion, sex, age, disability, or national origin. Its mandate is to:

• Investigate complaints from citizens that their voting rights are being deprived,

• study and collect information about discrimination or denials of equal protection under the law,

• appraise federal civil rights laws and policies,

• serve as a national clearinghouse on discrimination laws,

• submit reports and findings and recommendations to the President and the Congress, and

• issue public service announcements to discourage discrimination.

The Commission invites any individual who is eligible to be appointed a member of the Montana, New Mexico, Alaska, Wyoming, or Indiana Advisory Committee covered by this notice to send a letter of interest and a resume to the respective address above.

Dated: September 7, 2016.
David Mussatt,
Chief, Regional Programs Unit.

[FR Doc. 2016-21842 Filed 9-9-16; 8:45 am]

BILLING CODE P